ENVIRONMENTAL PROTECTION AGENCY

40 CFR Part 711

[EPA-HQ-OPPT-2014-0809; FRL-9924-84]

RIN 2070-AK01

Withdrawal of Partial Exemption for Certain Chemical Substances

AGENCY: Environmental Protection Agency (EPA).

ACTION: Final rule.

SUMMARY: In the Federal Register issue of January 27, 2015, EPA published a direct final rule that amended the list of chemical substances that are partially exempt from reporting additional information under the Chemical Data Reporting (CDR) rule to add certain chemical substances. EPA received an adverse comment pertinent to all six of the chemical substances that are the subject of that rule. This document accordingly withdraws the direct final rule.

DATES: This rule is effective March 30, 2015.

FOR FURTHER INFORMATION CONTACT: For technical information contact: Loraine Passe, Chemical Control Division (7405M), Office of Pollution Prevention and Toxics, Environmental Protection Agency, 1200 Pennsylvania Ave. NW., Washington, DC 20460-0001; telephone number: (202) 564-9064; email address: passe.loraine@epa.gov.

For general information contact: The TSCA-Hotline, ABVI-Goodwill, 422 South Clinton Ave., Rochester, NY 14620; telephone number: (202) 554-1404; email address: TSCA-Hotline@epa.gov.

SUPPLEMENTARY INFORMATION:

I. What rule is being withdrawn?

In the January 27, 2015 Federal Register (80 FR 4482) (FRL-9921-56), EPA added certain chemical substances to the list of chemical substances that are partially exempt from reporting additional information under the Chemical Data Reporting (CDR) rule. EPA later received an adverse comment that is pertinent to all six of the chemical substances that are the subject of that rule (EPA-HQ-OPPT-2014-0809). In accordance with the procedures described in the January 27, 2015 Federal Register document, EPA is withdrawing the direct final rule. EPA anticipates that it will publish, in the near future, a notice proposing to add these six chemical substances to the list of chemical substances that are partially exempt from reporting additional information under the Chemical Data Reporting (CDR) rule.

II. How do I access the docket?

To access the docket, please go to http://www.regulations.gov and follow the online instructions using the docket ID number EPA-HQ-OPPT-2014-0809. Additional information about the Docket Facility is also provided under ADDRESSES in the January 27, 2015 Federal Register document. If you have questions, consult the person listed under FOR FURTHER INFORMATION CONTACT.

III. Statutory and Executive Order Reviews

The reviews discussed in the January 27, 2015 Federal Register document are not applicable to this final rule because it is simply a withdrawal.

IV. Congressional Review Act (CRA)

Pursuant to the CRA, 5 U.S.C. 801 et seq., EPA will submit a report containing this rule amendment and other required information to the U.S. Senate, the U.S. House of Representatives, and the Comptroller General of the United States prior to publication of the action in the Federal Register. This action is not a “major rule” as defined by 5 U.S.C. 804(2).

List of Subjects in 40 CFR Part 711

Environmental protection, Chemicals, Hazardous substances, Reporting and recordkeeping requirements, Administrative practice and procedure.

Dated: March 20, 2015.
James Jones,
Assistant Administrator, Office of Chemical Safety and Pollution Prevention.

Therefore, 40 CFR chapter I is amended as follows:

PART 711—TSCA CHEMICAL DATA REPORTING REQUIREMENTS

1. The authority citation for part 711 continues to read as follows:

Authority: 15 U.S.C. 2607(a).

2. In § 711.6, in Table 2 of paragraph (b)(2)(iv), the following CASRN numbers are removed as set forth below.

§ 711.6 Chemical substances for which information is not required.

* * * * *

(b) * * *

(2) * * *

(iv) * * *

Table 2—CASRN of Partially Exempt Chemical Substances
CASRN | Chemical
* * * * * * *
61788-61-2 | Fatty acids, tallow, Me esters.
* * * * * * *
67762-26-9 | Fatty acids, C14-18 and C16-18-unsatd., Me esters.
67762-38-3 | Fatty acids, C16-18 and C-18-unsatd., Me esters.
67784-80-9 | Soybean oil, Me esters.
* * * * * * *
129828-16-6 | Fatty acids, canola oil, Me esters
515152-40-6. | Fatty acids, corn oil, Me esters.
* * * * * * *

[FR Doc. 2015-06933 Filed 3-27-15; 8:45 am]

BILLING CODE 6560-50-P